THE PRESIDENT

3 CFR

Proclamation 7815—National POW/MIA Recognition Day, 2004

Correction

In Presidential document 04-21124 beginning on page 56151 in Part IV of the issue of Friday, September 17, 2004, make the following correction:

On page 56151 under the heading Presidential Documents, “Proclamation 7814 of September 14, 2004” should read “Proclamation 7815 of September 14, 2004”.

[FR Doc. C4-21124 Filed 9-29-04; 8:45 am]

BILLING CODE 1505-01-D

DEPARTMENT OF HEALTH AND HUMAN SERVICES

Centers for Medicare & Medicaid Services

42 CFR Parts 431 and 457

[CMS-6026-CN]

RIN 0938-AM86]

Medicaid Program and State Children's Health Insurance Program (SCHIP); Payment Error Rate Measurement; Correction

Correction

In proposed rule document 04-21198 appearing on page 57244, in the issue of Friday, September 24, 2004, make the following correction:

On page 57244, in the second column, under the DATES heading, in the fourth line, “October 21, 2004” should read “October 27, 2004”.

[FR Doc. C4-21198 Filed 9-29-04; 8:45 am]

BILLING CODE 1505-01-D